OFFICE OF GOVERNMENT ETHICS

Review of Criminal Conflict of Interest Statutes; Opportunity for Comment

AGENCY: Office of Government Ethics (OGE).

ACTION: Notice.

SUMMARY: The Office of Government Ethics is conducting a review of the criminal conflict of interest statutes, 18 U.S.C. 202-209. This notice provides the public and agencies an opportunity to comment.

DATES: July 29, 2002.

ADDRESSES: Send any comments to the Office of Government Ethics, Suite 500, 1201 New York Avenue, NW., Washington, DC 20005-3917, Attention: Mr. Stuart D. Rick. Comments also may be sent electronically to OGE's Internet E-mail address at usoge@oge.gov. For E-mail messages, the subject line should include the following reference—”Comments Regarding Criminal Conflict of Interest Law Review.”

FOR FURTHER INFORMATION CONTACT: Stuart D. Rick, Deputy General Counsel, Office of Government Ethics; Telephone: 202-208-8000; TDD: 202-208-8025; FAX: 202-208-8037.

SUPPLEMENTARY INFORMATION: In a report to Congress last year, the Office of Government Ethics announced its intention to examine whether the criminal conflict of interest laws could be simplified or otherwise improved without sacrificing the necessary protection they provide for a fair and impartial Government process. Office of Government Ethics, Report on Improvements to the Financial Disclosure Process for Presidential Nominees 21-22 (April 2001) (available on OGE's website, www.usoge.gov, under “Forms, Publications & Other Ethics Documents”). Pursuant to its authorities under section 402 of the Ethics in Government Act of 1978, as amended (5 U.S.C. appendix), the Office of Government Ethics is now conducting a review of these statutes, which are codified at 18 U.S.C. 202-209.

The Office of Government Ethics is evaluating whether the conflict of interest laws are adequately tailored to their legislative purposes, in light of the realities of modern Government. The conflict of interest statutes have existed in more or less their current form for nearly 40 years, and the last comprehensive examination of the conflict of interest statutes occurred in 1989. See To Serve With Honor: Report of the President's Commission on Federal Ethics Law Reform (March 1989). Since that time, a number of developments have occurred, including, among others: sustained Government efforts toward privatization of certain functions; a growing emphasis on commercialization of Government-developed products; ever-increasing reliance on personnel with scientific and technological expertise; and a series of decisions by the courts that have called into question the appropriate scope of certain restrictions on the outside activities of Federal employees, e.g., Van Ee v. EPA, 202 F.3d 296 (D.C. Cir. 2000). The Office of Government Ethics' own experience in applying these laws over the years has led us to question whether some of the current restrictions may be unnecessarily broad. At the same time, we also believe there may be areas in which the current laws are too narrow to address real conflicts.

As part of its review, OGE invites members of the public to express their views concerning the need for change to the criminal conflict of interest statutes. Interested persons may submit written comments to OGE by July 29, 2002. Although numerous agency ethics officials already have provided comments concerning this matter in written submissions and/or meetings with OGE, any interested agencies also are invited to submit any additional comments they may have in response to this notice.

Approved: June 20, 2002.
Amy L. Comstock,
Director, Office of Government Ethics.

[FR Doc. 02-16256 Filed 6-26-02; 8:45 am]

BILLING CODE 6345-01-P